DEPARTMENT OF THE INTERIOR

Geological Survey

[GX20EG31DW50100; OMB Control Number 1028-0129]

Agency Information Collection Activities; Submission to the Office of Management and Budget for Review and Approval; Hydrography Addressing Tool

AGENCY: U.S. Geological Survey, Interior.

ACTION: Notice of information collection; request for comment.

SUMMARY: In accordance with the Paperwork Reduction Act (PRA) of 1995, the U.S. Geological Survey (USGS) is proposing to renew an information collection with revisions.

DATES: Interested persons are invited to submit comments on or before February 20, 2025.

ADDRESSES: Written comments and recommendations for the proposed information collection should be sent within 30 days of publication of this notice to www.reginfo.gov/public/do/PRAMain. Find this particular information collection request (ICR) by selecting “Currently under Review—Open for Public Comments” or by using the search function. Please provide a copy of your comments by mail to U.S. Geological Survey, Information Collections Officer, 12201 Sunrise Valley Drive MS 159, Reston, VA 20192: or by email to gs-info_collections@usgs.gov. Please reference OMB Control Number 1028-0129 in the subject line of your comments.

FOR FURTHER INFORMATION CONTACT: Michael Tinker by email at mdtinker@usgs.gov or by telephone at 303-202-4476. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA of 1995 (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 1, 2024, 89 FR 79945. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: This 30-day notice is a renewal, with revisions, for the Hydrography Addressing Tool (HydroAdd), a website developed by the USGS National Geospatial Program, National Geospatial Technical Operations Center (NGTOC).

HydroAdd supports users by providing a mechanism for addressing (or referencing) diverse external datasets to the National Hydrography Dataset (NHD). For example, a user can utilize HydroAdd to reference the geographic locations of field observations of fish presence to the NHD. HydroAdd provides a framework for the management of addressed data and enables upstream and down-stream analyses within the context of the stream network. Any type of information can be addressed to the stream network, making this tool highly useful for a broad range of purposes that benefit the Nation.

HydroAdd users are members of the public, and include State, local, private sector, academic, or other users with a basic knowledge of GIS. To use HydroAdd, users must first share their geospatial data as a hosted web feature service from ArcGIS Online. HydroAdd displays the user's data as a web feature service in the browser window. Users can then utilize HydroAdd to address their data to the NHD. Note that HydroAdd does not allow users to edit the NHD. Users are strictly limited to editing their own data.

The information collection request is the user registration. Users must register at the HydroAdd website. When registering, users are required to fill out a profile with a username and email contact. This information is stored in the application database.

Modifications to improve the HydroAdd tool are currently in development. The modifications were necessary (a) to allow HydroAdd to use the latest hydrography product from the USGS 3D Hydrography Program (3DHP); (b) to implement an open-source hosting service for user data (GeoServer), rather than ArcGIS Online; (c) to authenticate users with login.gov rather than ArcGIS.com or DOI; (d) to update some of the underlying logic to speed GIS processing, and (e) to update the name of the tool to HydroAdd3d. These modifications do not affect the information collection.

Title of Collection: Hydrography Addressing Tool.

OMB Control Number: 1028-0129.

Form Number: NA.

Type of Review: Revision of a currently approved collection.

Respondents/Affected Public: 100.

Total Estimated Number of Annual Respondents: 100.

Total Estimated Number of Annual Responses: 100.

Estimated Completion Time per Response: 1 minute.

Total Estimated Number of Annual Burden Hours: 1-2/3 hour.

Respondent's Obligation: Voluntary.

Frequency of Collection: One time, or as needed if respondent business contact information changes.

Total Estimated Annual Nonhour Burden Cost: None.

An agency may not conduct, or sponsor and a person is not required to respond to a collection of information unless it displays a currently valid OMB control number.

The authority for this action is the PRA of 1995 (44 U.S.C. 3501 et seq.).

Ray Postolovski,
Deputy Associate for Operations, National Geospatial Technical Operations Center.

[FR Doc. 2025-01241 Filed 1-17-25; 8:45 am]

BILLING CODE 4338-11-P